DEPARTMENT OF VETERANS AFFAIRS

Section 102(c) of the Veterans Access, Choice, and Accountability Act of 2014

AGENCY: Department of Veterans Affairs.

ACTION: Notice of Tribal Consultation.

SUMMARY: As required by section 102(c) of the Veterans Access, Choice, and Accountability Act of 2014, the Secretary of the Department of Veterans Affairs (VA) and the Director of the Indian Health Service will jointly submit to Congress a report on the feasibility and advisability of entering into and expanding certain reimbursement agreements. VA is seeking Tribal Consultation on section 102(c).

DATES: Comments must be received by VA on or before January 14, 2015.

FOR FURTHER INFORMATION CONTACT: Tracey Parker Warren, VA Office of Tribal Government Relations by phone at (202) 461-7400 (this is not a toll-free number), or by email at Tribalgovernmentconsultation@va.gov.

ADDRESSES: Written comments may be submitted to Tracey Parker Warren, VA Office of Public and Intergovernmental Affairs, Office of Tribal Government Relations by email at Tribalgovernmentconsultation@va.gov, by fax to (202) 273-5716, or by hand-delivery to Director, Office of Tribal Government Relations (075F), Department of Veterans Affairs, 810 Vermont Avenue NW., Room 1068, Washington, DC 20420. Comments should indicate that the submission is in response to “Notice of Tribal Consultation: Section 102(c) of the Veterans Access, Choice, and Accountability Act of 2014.”

SUPPLEMENTARY INFORMATION: VA's Office of Tribal Government Relations (OTGR) is seeking Tribal Consultation on section 102(c) of the Veterans Access, Choice, and Accountability Act of 2014, Public Law (P.L.) 113-146.

Public Law 113-146, section 102(c) (as revised by section 409(b)(2) of Public Law 113-175). OTGR specifically seeks Tribal Consultation in the form of written comments concerning the feasibility and advisability of Indian Health Service and Tribal Health Programs entering into agreements with VA for reimbursement of the costs of direct care services provided to eligible Veterans who are not American Indian or Alaska Native.

Signing Authority

The Secretary of Veterans Affairs, or designee, approved this document and authorized the undersigned to sign and submit the document to the Office of the Federal Register for publication electronically as an official document of the Department of Veterans Affairs. Jose D. Riojas, Chief of Staff, approved this document on December 23, 2014, for publication.

Dated: December 23, 2014.
William F. Russo,
Acting Director, Office of Regulation Policy & Management, Office of the General Counsel, Department of Veterans Affairs.

[FR Doc. 2014-30527 Filed 12-29-14; 8:45 am]

BILLING CODE 8320-01-P